DEPARTMENT OF COMMERCE

International Trade Administration

U.S. Multi-Sector Trade Mission to South India and Sri Lanka

AGENCY: International Trade Administration, Department of Commerce.

ACTION: Amendment to Notice.

SUMMARY: The United States Department of Commerce, International Trade Administration, U.S. and Foreign Commercial Service is amending the Notice regarding the U.S. Multi-Sector Trade Mission to South India (Chennai and Cochin) and Sri Lanka (Colombo) February 3-8, 2013, published at 77 FR 48499, August 14, 2012 to revise the application deadline from November 30, 2012 to the new deadline of December 21, 2012, to provide for selection of applicants on a rolling basis, and to expand the eligibility to include U.S. trade associations.

FOR FURTHER INFORMATION CONTACT:

San Jose (Silicon Valley) Export Assistance Center, Aileen Crowe Nandi, Commercial Officer, 55 S. Market Street, Suite 1040, San Jose, CA 95113, Tel: (408) 535-2757, ex. 102, Email: aileen.nandi@trade.gov.

U.S. Commercial Service India, James P. Golsen, Principal Commercial Officer for South India, U.S. Commercial Service, Chennai, India, Tel: +91-44-2857-4209, Email: james.golsen@trade.gov.

U.S. Commercial Service Washington, DC, Arica Young, U.S. Commercial Service, Washington, DC, Tel: 202.482.2833, Email: Arica.Young@trade.gov.

SUPPLEMENTARY INFORMATION: In August 2012 the Department of Commerce initiated recruitment for participation in the U.S. Multi-Sector Trade Mission to Chennai and Cochin, India and Colombo, Sri Lanka on February 3-8, 2013, published at 77 FR 48499, August 14, 2012, as previously amended by notice at 77 FR 59899 (Oct. 1, 2012) adding architectural services as a targeted sector for this mission. Due to the Thanksgiving holidays and disruptions related to Hurricane Sandy, it has been determined that additional time is needed to allow for additional recruitment and marketing in support of the mission. Applications now will be accepted through December 21, 2012. Interested firms and trade associations in the architecture, infrastructure, hospitality, healthcare, and environmental and information technologies sectors, including firms and trade associations that have not already submitted an application, are encouraged to apply. Applications will be accepted after the deadline only to the extent that space remains and scheduling constraints permit. In addition, to facilitate the ability of firms to take the mission into account in their business planning, US&FCS will begin to make selection decisions beginning November 15, 2012.

As originally published, the Federal Register notice of the trade mission stated that only U.S. companies were eligible to participate in the trade mission. In response to the interest expressed by trade associations, US&FCS is amending the notice to expand the eligibility to include U.S. trade associations.

Amendments

The Fees and Expenses, Conditions for Participation, Selection Criteria for Participation, and Timeframe for Recruitment and Applications sections of the U.S. Multi-Sector Trade Mission to Chennai and Cochin, India and Colombo, Sri Lanka are amended to read as follows:

Fees and Expenses

After a company or trade association has been selected to participate on the mission, a payment to the U.S. Department of Commerce in the form of a participation fee is required. The participation fee is $4,481 for large firms and $4,303 for small or medium-sized enterprises (SME) ¹ and trade associations. The fee for each additional representative (large firm or SME/trade association) is $750. Expenses for travel, lodging, some meals, and incidentals will be the responsibility of each mission participant.

¹ An SME is defined as a firm with 500 or fewer employees or that otherwise qualifies as a small business under SBA regulations (see http://www.sba.gov/services/contracting opportunities/sizestandardstopics/index.html). Parent companies, affiliates, and subsidiaries will be considered when determining business size. The dual pricing reflects the Commercial Service's user fee schedule that became effective May 1, 2008 (see http://www.export.gov/newsletter/march2008/initiatives.html for additional information).

Conditions for Participation

Applicants must submit a completed and signed mission application and supplemental application materials, including adequate information on the company's (or in the case of a trade association, member companies') products and/or services, primary market objectives, and goals for participation. If the Department of Commerce receives an incomplete application, the Department may either: reject the application, request additional information/clarification, or take the lack of information into account when evaluating the applications.

Each applicant must also certify that the products and services it seeks to export through the mission are either produced in the United States, or, if not, are marketed under the name of a U.S. firm and have at least fifty-one percent U.S. content. In the case of a trade association, the applicant must certify that for each company to be represented by the association, the products and/or services the represented company seeks to export are either produced in the United States or, if not, marketed under the name of a U.S. firm and have at least fifty-one percent U.S. content.

Selection Criteria for Participation

• Suitability of the company's (or in the case of a trade association, member companies') products or services to the mission goals.

• Applicant's (or in the case of a trade association, member companies') potential for business in India and Sri Lanka, including likelihood of exports resulting from the mission.

• Consistency of the applicant's (or in the case of a trade association, member companies') goals and objectives with the stated scope of the mission.

Additional factors, such as diversity of company size, type, location, and demographics, may also be considered during the review process.

Referrals from political organizations and any documents containing references to partisan political activities (including political contributions) will be removed from an applicant's submission and not considered during the selection process.

Timeframe for Recruitment and Applications

Mission recruitment will be conducted in an open and public manner, including publication in the Federal Register, posting on the Commerce Department trade mission calendar— http://export.gov/trademissions/index.asp—and other Internet Web sites, press releases to general and trade media, direct mail, broadcast fax, notices to industry trade associations and other multiplier groups, and publicity at industry meetings, symposia, conferences, and trade shows.

Recruitment for the mission began in August 2012 and will conclude December 21, 2012 for U.S. company and trade association participants. The U.S. Department of Commerce will being reviewing applications and making selection decisions on a rolling basis beginning November 15, 2012, until the maximum of 20 participants is selected. Applications received by U.S. companies after October 12, 2012 and by U.S. trade associations after November 12, 2012, will be considered only if space and scheduling constraints permit.

Elnora Moye,
Trade Program Assistant.

[FR Doc. 2012-28222 Filed 11-19-12; 8:45 am]

BILLING CODE 3510-FP-P